DEPARTMENT OF THE INTERIOR

Bureau of Land Management

[LLCON03000-L51100000-GA0000; COC-70538]

Notice of Intent To Prepare an Environmental Impact Statement and Notice of Public Meeting for the Book Cliffs Coal Lease by Application in Garfield County, Colorado

AGENCY: Bureau of Land Management, Interior.

ACTION: Notice of intent and notice of public meeting.

SUMMARY: In compliance with the National Environmental Policy Act of 1969 (NEPA), as amended, and the Federal Land Policy and Management Act of 1976, as amended, the Bureau of Land Management (BLM), Colorado, Grand Junction Field Office, announces its intent to prepare an Environmental Impact Statement (EIS) to analyze the Book Cliffs lease by application (LBA) for approximately 14,160 acres of Federal coal reserves in Garfield County, Colorado. The Book Cliffs application tract has been assigned case number COC-70538.

DATES: This notice initiates the public scoping process for the Book Cliffs LBA EIS. Comments may be submitted in writing until February 18, 2014. The date(s) and location(s) of any scoping meetings will be announced at least 15 days in advance through local media, newspapers and the BLM Web site at: http://www.blm.gov/co/st/en/fo/gjfo.html. All comments must be received prior to the close of the 30-day scoping period or 15 days after the last public meeting (whichever is later) to be included in the Draft EIS. The BLM will provide additional opportunities for public participation upon publication of the Draft EIS.

ADDRESSES: You may submit written comments on the Book Cliffs LBA EIS by any of the following methods:

• Email: BLM_CO_GJ_Public_Comments@blm.gov.

• Fax: (970) 244-3085.

• Mail: BLM, Grand Junction Field Office, 2815 H Road, Grand Junction, CO 81506, Attn, Christina Stark.

Please include “Books Cliffs LBA EIS” in the subject line. Documents pertinent to this application may be examined at the Grand Junction Field Office at the address above during its business hours (7:30 a.m.-4:30 p.m.), Monday through Friday, except holidays.

FOR FURTHER INFORMATION CONTACT: For further information, or to have your name added to our mailing list, contact Christina Stark, Project Manager, at (970) 244-3022; see address above; or by email at cstark@blm.gov. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: An application to lease Federal coal near the Town of Fruita, Colorado was filed with the BLM on September 12, 2006, by CAM-Colorado, LLC. This application was previously analyzed in a Draft Environmental Impact Statement (Draft EIS) that was released for public comment in January 2009. Based on the public comments, the BLM determined that additional environmental review was needed. This notice serves to announce the beginning of that additional review and analysis.

TheBook Cliffs LBA Tract includes approximately 78 million tons of in-place Federal coal underlying the following lands in Garfield County, Colorado.

Sixth Principal Meridian

T. 7 S., R. 101 W.,

Sec. 7, lot 8, and SE¼SE¼;

Sec. 8, S½SW¼, NE¼SW¼, and SE¼;

Sec. 16, lots 5 and 6, and that part of Tract 43 lying in the W½SW¼;

Sec. 17;

Sec. 18;

Sec. 19;

Sec. 20;

Sec. 21;

Sec. 28, N½, SW¼, N½SE¼, and SW¼SE¼;

Sec. 29;

Sec. 30;

Sec. 31;

Sec. 32;

Sec. 33, lots 3 and 4, and NW¼.

T. 7 S., R. 102 W.,

Sec. 13, lots 2, 3, and 4, SW¼NE¼ S½NW¼, SW¼, and W½SE¼;

Sec. 14, S½NE¼, SE¼NW¼, E½SW¼, and SE¼;

Sec. 23, NE¼, E½NW¼, E½SW¼, and SE¼;

Sec. 24;

Sec. 25;

Sec. 26, NE¼, E½NW¼, SW¼NW¼, and S½;

Sec. 35;

Sec. 36.

T. 8 S., R.101 W.,

Sec. 4, lot 8;

Sec. 5;

Sec. 6;

Sec. 7;

Sec. 8;

T. 8 S., R. 102 W.,

Sec. 1;

Sec. 12, N½, and SE¼.

Containing approximately 14,160 acres.

If the BLM decides to approve the Book Cliffs LBA, the successful bidder would be responsible for securing and maintaining any local, state or Federal permits and approvals as applicable and required by law for future mining operations of the lease tract. Mining activities may subsequently be permitted by the Colorado Division of Reclamation, Mining and Safety or the Western Region of the Office of Surface Mining Reclamation and Enforcement (OSM).

At present, the BLM has identified the following preliminary issues: Air quality; water quality, supply and rights; wildlife and wildlife habitat; soils; recreation and visual resources; socio-economics; oil and gas development; paleontology; cultural resources; riparian habitat; livestock grazing; and transportation.

The BLM will use NEPA to satisfy the public involvement requirements under Sec 106 of the National Historic Preservation Act (NHPA) (16 U.S.C. 470(f)) pursuant to 36 CFR 800.2(d)(3). The information about historic and cultural resources within the area potentially affected by the Book Cliffs LBA will assist the BLM in identifying and evaluating impacts to such resources in the context of both NEPA and Sec. 106 of the NHPA.

The BLM will consult with Indian tribes on a government-to-government basis in accordance with Executive Order 13175 and other policies. Tribal concerns, including impacts on Indian trust assets and potential impacts to cultural resources, will be given due consideration. Federal, state, and local agencies, along with tribes and other stakeholders that may be interested in or affected by the Book Cliffs LBA may also request to participate in the development of the EIS as a cooperating agency. Currently, OSM, the Colorado Department of Natural Resources, and Garfield County are cooperating agencies. Other cooperating agencies may be identified during the scoping process.

Before including your address, phone number, email address, or other personal identifying information in your comment, you should be aware that your entire comment—including your personal identifying information—may be made publicly available at any time. While you can ask us in your comment to withhold your personal identifying information from public review, we cannot guarantee that we will be able to do so.

Authority: 43 CFR 3425.

John Mehlhoff,
BLM Colorado Acting State Director.

[FR Doc. 2014-00884 Filed 1-16-14; 8:45 am]

BILLING CODE 4310-JB-P